DEPARTMENT OF COMMERCE

International Trade Administration

[A-570-067, A-475-839, and A-583-863]

Forged Steel Fittings From the People's Republic of China, Italy, and Taiwan: Postponement of Preliminary Determinations in the Less-Than-Fair-Value Investigations

AGENCY: Enforcement and Compliance, International Trade Administration, Department of Commerce.

DATES: Applicable February 2, 2018.

FOR FURTHER INFORMATION CONTACT: Katherine Johnson at (202) 482-4929 or Renato Barreda at (202) 482-0317 (the People's Republic of China (China)), and Denisa Ursu at (202) 482-2285 or Michael Bowen at (202) 482-0768 (Italy), Robert Palmer at (202) 482-9068 (Taiwan), AD/CVD Operations, Office VIII, Enforcement and Compliance, International Trade Administration, U.S. Department of Commerce, 1401 Constitution Avenue NW, Washington, DC 20230.

SUPPLEMENTARY INFORMATION:

Background

On October 25, 2017, the Department of Commerce (Commerce) initiated less-than-fair-value (LTFV) investigations of imports of forged steel fittings from China, Italy and Taiwan.¹ Currently, the preliminary determinations are due no later than March 14, 2018.

¹ See Forged Steel Fittings from the People's Republic of China, Italy, and Taiwan: Initiation of Less-Than-Fair-Value Investigations, 82 FR 50614 (November 1, 2017) (Initiation Notice).

Postponement of Preliminary Determinations

Section 733(b)(1)(A) of the Tariff Act of 1930, as amended (the Act), requires Commerce to issue the preliminary determination in an LTFV investigation within 140 days after the date on which Commerce initiated the investigation. However, section 733(c)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request. See 19 CFR 351.205(e).

On January 10, 2018, the petitioners ² submitted a timely request that Commerce postpone the preliminary determinations in these LTFV investigations. The petitioners stated that they request postponement because under the current issue date for the preliminary determinations, Commerce will not have received all questionnaire responses and obtained sufficient information for making preliminary determinations.³

² The petitioners are Bonney Forge Corporation and United Steel, Paper and Forestry, Rubber, Manufacturing, Energy, Allied Industrial and Service Workers International Union (USW).

³ See Letter from the petitioners re: “Forged Steel Fittings from the People's Republic of China, Italy, and Taiwan: Request to Extend Deadlines for Preliminary Determinations,” dated January 10, 2018.

For the reasons stated above and because there are no compelling reasons to deny the request, Commerce, in accordance with section 733(c)(1)(A) of the Act, is postponing the deadline for the preliminary determinations by 50 days (i.e., 190 days after the date on which these investigations were initiated). As a result, Commerce will issue its preliminary determinations no later than May 3, 2018. In accordance with section 735(a)(1) of the Act and 19 CFR 351.210(b)(1), the deadline for the final determinations of these investigations will continue to be 75 days after the date of publication of the preliminary determinations, unless postponed at a later date.

This notice is issued and published pursuant to section 733(c)(2) of the Act and 19 CFR 351.205(f)(1).

Dated: January 29, 2018.
Christian Marsh,
Acting Assistant Secretary for Enforcement and Compliance.

[FR Doc. 2018-02103 Filed 2-1-18; 8:45 am]

BILLING CODE 3510-DS-P